DEPARTMENT OF ENERGY

Federal Energy Regulatory Commission

Notice of Settlement Agreement and Soliciting Comments

October 10, 2000.

Take notice that the following Settlement Agreement has been filed with the Commission and is available for public inspection:

a. Type: Settlement Agreement on New License Application.

b. Project No.: 1962-000.

Project Name: Rock Creek-Cresta.

Applicant: Pacific Gas and Electric Company.

c. Date Settlement Agreement Filed: September 29, 2000.

d. Location: On the North Fork Feather River, in Butte and Plumas countries, California. About 228 acres of the project area occupy lands of the United States, primarily within the Lassen and Plumas National Forests.

e. Filed Pursuant to: Rule 602 of the Commission's Rules of Practice and Procedure, 18 CFR 385.602.

f. Applicant's Contact: Tom Jereb, Pacific Gas and Electric Company, Mail Code N11C, P.O. Box 770000, San Francisco, CA 94177; (415) 973-9320.

g. FERC Contact: Dianne Rodman (202) 219-2830, Email: dianne.rodman@ferc.fed.us

h. Deadline Dates: Comments due November 30, 2000, or 30 days after the filing of the supporting documentation, whichever comes later; reply comments due December 14, 2000, or 45 days after the filing of the supporting documentation, whichever comes later.

i. Individuals desiring to be included on the Commission's mailing list should so indicate by writing to the Secretary of the Commission.

All documents (original and eight copies) should be filed with: David P. Boergers, Secretary, Federal Energy Regulatory Commission, 888 First Street, NE, Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

j. Description of Filing: Pacific Gas and Electric Company (PG&E) filed the Settlement Agreement on behalf of itself and the U.S. Department of Agriculture Forest Service, U.S. Fish and Wildlife Service, California Department of Fish and Game, California State Water Resources Control Board, Natural Heritage Institute, Friends of the River, Plumas County, California Outdoors, California Trout, Chico Paddleheads, American Whitewater, and Shasta Paddlers. The purpose of the Settlement Agreement is to resolve among the signatories all issues associated with issuance of a new license for the project regarding sediment management, water quality, instream flows, fish habitat, and recreation. PG&E requests that the Commission accept and incorporate into any new license for the project the protection, mitigation, and enhancement measures stated in Appendix A of the Settlement Agreement. Comments and reply comments on the Settlement Agreement and supporting documentation are due on the dates listed above.

k. Copies of the Settlement Agreement are available for inspection and reproduction at the Commission's Public Reference Room, located at 888 First Street, NE, Room 2A, Washington, D.C. 20426, or by calling (202) 208-1371. This filing may be viewed on http://www.ferc.fed.us/online/rims.htm (call 202-208-2222 for assistance) or at the address listed in item f above.

David P. Boergers,
Secretary.

[FR Doc. 00-26486 Filed 10-13-00; 8:45 am]

BILLING CODE 6717-01-M